DEPARTMENT OF AGRICULTURE

Food and Nutrition Service

7 CFR Parts 210 and 220

[FNS-2008-0033]

RIN 0584-AD65

School Food Safety Program Based on Hazard Analysis and Critical Control Point Principles (HACCP); Approval of Information Collection Request

AGENCY: Food and Nutrition Service, USDA.

ACTION: Final rule; approval of information collection request.

SUMMARY: The final rule entitled School Food Safety Program Based on Hazard Analysis and Critical Control Point Principles (HACCP) was published on December 15, 2009, which implemented a legislative provision requiring school food authorities participating in the National School Lunch Program (NSLP) or the School Breakfast Program (SBP) to develop a school food safety program for the preparation and service of school meals served to children. The Office of Management and Budget (OMB) cleared the associated information collection requirements (ICR) on November 2, 2009. This document announces approval of the ICR.

DATES: The ICR associated with the final rule published in the Federal Register on December 15, 2009, at 74 FR 66213, was approved by OMB on December 30, 2009, under OMB Control Number 0584-0550.

FOR FURTHER INFORMATION CONTACT: Lynn Rodgers-Kuperman, Chief, Program Analysis and Monitoring Branch, Child Nutrition Division, Food and Nutrition Service, USDA, 3101 Park Center Drive, Room 640, Alexandria, Virginia 22302, (703) 305-2600, or Lynn.Rogers@fns.usda.gov.

SUPPLEMENTARY INFORMATION: The December 15, 2009 (74 FR 66213), final rule implemented a legislative provision which requires school food authorities participating in the National School Lunch Program (NSLP) or the School Breakfast Program (SBP) to develop a school food safety program for the preparation and service of school meals served to children. The school food safety program must be based on the (HACCP) system established by the Secretary of Agriculture. The food safety program enables schools to take systematic action to prevent or minimize the risk of food-borne illness among children participating in the NSLP and SBP. The information collection requirements were approved by OMB on December 30, 2009.

Dated: February 4, 2010.
Julia Paradis,
Administrator, Food and Nutrition Service.

[FR Doc. 2010-3476 Filed 2-23-10; 8:45 am]

BILLING CODE 3410-30-P